DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Bio-refinery, Renewable Chemical, and Biobased Product Manufacturing Assistance Program.

OMB Control Number: 0570-0065.

Summary of Collection: The Rural Business-Cooperative Service (RBCS or the Agency) is a Rural Development agency of the U.S. Department of Agriculture and administers The Biorefinery, Renewable Chemical, and Biobased Product Manufacturing Assistance Program (Program). The Program was established under Section 9003 of the 2008 Farm Bill and assists in the development, construction, and retrofitting of new and emerging technologies for the development of advanced biofuels by providing loan guarantees of up to $250 million. The Program's authority was continued in the Agricultural Acts of 2014 and 2018. This collection of information is necessary for Rural Development to identify projects eligible for loan guarantees under the Program. In accordance with the Paperwork Reduction Act of 1995 (Pub. L. 104-13, 44 U.S.C. chapter 35), Rural Development is submitting this information collection package to the Office of Management and Budget (OMB) for review and clearance.

Need and Use of the Information: The Agency will use various forms and written evidence to collect needed information to determine lender and borrower eligibility for loan guarantees, and to ensure the lender protects the government's financial interests. Lenders provide the Agency with quarterly construction progress reports demonstrating that engineering and financial criteria used in the review and approval of the application continue to be met during the construction phase of the project. Post-construction information will be collected demonstrating that the bio-refineries are operating and meeting all financial criteria projected during the application phase. If the information were not collected, the Agency would not be able to make prudent credit decisions nor monitor the lenders servicing activities.

Description of Respondents: Business or other for-profit.

Number of Respondents: 26.

Frequency of Responses: Recordkeeping; Reporting: Annually.

Total Burden Hours: 7,803.

Levi S. Harrell,
Departmental Information Collection Clearance Officer.

[FR Doc. 2024-05431 Filed 3-13-24; 8:45 am]

BILLING CODE 3410-XY-P